DEPARTMENT OF COMMERCE

National Telecommunications and Information Administration

Community Broadband Workshop

AGENCY: National Telecommunications and Information Administration, U.S. Department of Commerce.

ACTION: Notice of open meeting.

SUMMARY: The National Telecommunications and Information Administration (NTIA), through the BroadbandUSA program, will hold a technical assistance workshop to share information to help communities build their broadband capacity and utilization. The workshop will present in-depth sessions on planning and funding broadband infrastructure projects. The planning session will explore effective business and partnership models, and the funding session will identify available funding types, including federal funding.

DATES: The Technical Assistance Workshop will be held on April 19, 2017, from 8:30 a.m. to 12:30 p.m., Mountain Standard Time.

ADDRESSES: The meeting will be held in Mesa, AZ at the Mesa Arts Center Meeting Room, 1 East Main Street, Mesa, AZ 85201.

FOR FURTHER INFORMATION CONTACT: Giselle Sanders, National Telecommunications and Information Administration, U.S. Department of Commerce, Room 4628, 1401 Constitution Avenue NW., Washington, DC 20230; telephone: (202) 482-7971; email: gsanders@ntia.doc.gov. Please direct media inquiries to NTIA's Office of Public Affairs, (202) 482-7002; email: press@ntia.doc.gov.

SUPPLEMENTARY INFORMATION: NTIA's BroadbandUSA program provides expert advice and field-proven tools for assessing broadband adoption, planning new infrastructure, and engaging a wide range of partners in broadband projects. BroadbandUSA convenes workshops on a regular basis to bring stakeholders together to discuss ways to improve broadband policies, share best practices, and connect communities to federal agencies and other funding sources for the purpose of expanding broadband infrastructure and adoption throughout America's communities. This workshop will explore two topics for broadband infrastructure: Planning and funding.

The workshop will feature subject matter experts from NTIA's BroadbandUSA program. The first session will explore key elements required for planning successful broadband projects. The second session will identify funding models, including federal programs that support broadband infrastructure projects.

The workshop will be open to the public. Pre-registration is requested, and space is limited. NTIA will ask registrants to provide their first and last names and email addresses for both registration purposes and to receive any updates on the workshop. If capacity for the meeting is reached, NTIA will maintain a waiting list and will inform those on the waiting list if space becomes available. Meeting updates, changes in the agenda, if any, and relevant documents will be also available on NTIA's Web site at https://www2.ntia.doc.gov/arizona-technical-assistance-workshop.

The public meeting is physically accessible to people with disabilities. Individuals requiring accommodations, such as language interpretation or other ancillary aids, are asked to notify Giselle Sanders at the contact information listed above at least five (5) business days before the meeting.

Dated: March 23, 2017.
Kathy D. Smith,
Chief Counsel, National Telecommunications and Information Administration.

[FR Doc. 2017-06097 Filed 3-27-17; 8:45 am]

BILLING CODE 3510-60-P